ELECTION ASSISTANCE COMMISSION

Sunshine Act Notice

AGENCY: United States Election Assistance Commission.

ACTION: Notice of public meeting for EAC Board of Advisors.

DATE AND TIME: Monday, January 22, 2007, 9 a.m.-5 p.m. and Tuesday, January 23, 2007, 8:30 a.m.-3 p.m.

PLACE: Four Points Sheraton, 1201 K Street, NW., (12th & K Streets, NW.), Washington, DC 20005, (202) 289-7600.

PURPOSE: The U.S. Election Assistance Commission (EAC) Board of Advisors, as required by the Help America Vote Act of 2002 (HAVA), will meet and receive updates on EAC projects and activiteis and discuss other relevant matters pertaining to the administration of Federal elections. The Board will receive updates on the following subjects: EAC's voting system certification and laboratory accreditation program; activities of the Technical Guidelines Development Committee (TGDC) regarding the voluntary voting system guidelines; HAVA financial reporting schedules; EAC's audit process; EAC's Election Duty survey and EAC's Uniformed and Overseas Citizens Absentee Voting Act (UOCAVA) survey. The Board will also discuss other election administration and administrative matters.

This meeting will be open to the public.

PERSON TO CONTACT OUR INFORMATION: Bryan Whitener, Telephone: (202) 566-3100.

Thomas R. Wilkey,
Executive Director, U.S. Election Assistance Commission.

[FR Doc. 07-21 Filed 1-3-07; 4:23 am]

BILLING CODE 6820-KF-M